FARM CREDIT ADMINISTRATION

Privacy Act of 1974; System of Records

AGENCY: Farm Credit Administration.

ACTION: Notice of a new system of records.

SUMMARY: Pursuant to the provisions of the Privacy Act of 1974, as amended, notice is hereby given that the Farm Credit Administration (FCA or Agency) is proposing to establish a new system of records. The Health and Safety in the Workplace Records System will collect and maintain information used for ensuring workplace health and safety in response to a public health emergency, such as a pandemic or epidemic.

DATES: You may send written comments on or before December 17, 2021. The FCA filed a Notice of a New System Report with Congress and the Office of Management and Budget on (Insert date). This notice will become effective without further publication on December 27, 2021, unless modified by a subsequent notice to incorporate comments received from the public.

ADDRESSES: We offer a variety of methods for you to submit your comments. For accuracy and efficiency reasons, commenters are encouraged to submit comments by email or through the FCA's website. As facsimiles (fax) are difficult for us to process and achieve compliance with section 508 of the Rehabilitation Act, we are no longer accepting comments submitted by fax. Regardless of the method you use, please do not submit your comment multiple times via different methods. You may submit comments by any of the following methods:

• Email: Send us an email at reg-comm@fca.gov.

• FCA Website: http://www.fca.gov. Click inside the “I want to . . .” field, near the top of the page; select “comment on a pending regulation” from the dropdown menu; and click “Go.” This takes you to an electronic public comment form.

• Mail: Kevin Kramp, Director, Office of Regulatory Policy, Farm Credit Administration, 1501 Farm Credit Drive, McLean, VA 22102-5090.

You may review copies of comments we receive at our office in McLean, Virginia, or from our website at http://www.fca.gov. Once you are in the website, click inside the “I want to . . .” field, near the top of the page; select “find comments on a pending regulation” from the dropdown menu; and click “Go.” This will take you to the Comment Letters page, where you can select the SORN for which you would like to read public comments. The comments will be posted as submitted but, for technical reasons, items such as logos and special characters may be omitted. Identifying information that you provide, such as phone numbers and addresses, will be publicly available. However, we will attempt to remove email addresses to help reduce internet spam.

FOR FURTHER INFORMATION CONTACT: Jane Virga, Privacy Act Officer, Farm Credit Administration, McLean, Virginia 22102-5090, (703) 883-4071, TTY (703) 883-4019.

SUPPLEMENTARY INFORMATION: This publication satisfies the requirement of the Privacy Act of 1974 that agencies publish a system of records notice in the Federal Register when establishing a new system of records.

The new system of records, FCA-20—Health and Safety in the Workplace Records System—FCA, will be used to capture and manage information necessary to ensure workplace health and safety in response to a public health emergency, obtained from FCA and Farm Credit Insurance Corporation (FCSIC) employees, interns, volunteers, job applicants, and contractors (collectively “staff”), as well as visitors to FCA facilities and field offices.

FCA is committed to providing all staff and visitors with a safe and healthy work environment. FCA may require staff and visitors to provide health-related, medical screening, and contact tracing information, before being allowed to enter an FCA facility or field office. Staff may also need to provide health-related information before being authorized to travel on official agency business.

Certain records collected from federal employees and interns, and maintained in this system, may also be maintained and covered by OPM/GOVT-10 Employee Medical File System Records (75 FR 35099, June 21, 2010), FCA-1—Employee Attendance, Leave, and Payroll Records—FCA (85 FR 13900, March 10, 2020), and FCA-19—Non-Payroll Employee Administrative Records System—FCA (85 FR 51432, August 20, 2020). This system complements those systems, and in some cases, this notice incorporates by reference but does not repeat all the information contained in those systems.

As required by 5 U.S.C. 552a(r) of the Privacy Act, as amended, the FCA sent notice of this new system of records to the Office of Management and Budget, the Committee on Oversight and Government Reform of the House of Representatives, and the Committee on Homeland Security and Governmental Affairs of the Senate. The notice is published in its entirety below.

SYSTEM NAME AND NUMBER:

FCA-20—Health and Safety in the Workplace Records System—FCA.

SECURITY CLASSIFICATION:

Unclassified.

SYSTEM LOCATION:

Farm Credit Administration, 1501 Farm Credit Drive, McLean, VA 22102-5090.

SYSTEM MANAGER:

Director, Office of Agency Services and Chief Human Capital Officer, Farm Credit Administration, 1501 Farm Credit Drive, McLean, VA 22102-5090.

AUTHORITY FOR MAINTENANCE OF THE SYSTEM:

12 U.S.C. 2243, 2252; Civil Rights Act of 1964 § 7, 42 U.S.C. 2000e et seq. Workforce safety federal requirements, including 5 U.S.C. Chapters 11 and 79; 29 U.S.C. 791, Employment of Individuals with Disabilities; Executive Order 14043 on Requiring Coronavirus Disease 2019 Vaccination for Federal Employees dated September 9, 2021; Executive Order 14042 on Ensuring Adequate COVID Safety Protocols for Federal Contractors dated September 9, 2021; Executive Order 13991 on Protecting the Federal Workforce and Requiring Mask-Wearing dated January 20, 2021; and Executive Order 12196 on Occupational Safety and Health Program for Federal Employees dated February 26, 1980.

PURPOSES OF THE SYSTEM:

The purpose of the Health and Safety in the Workplace Records System is to capture and manage information necessary to ensure workplace health and safety in response to a public health emergency.

CATEGORIES OF INDIVIDUALS COVERED BY THE SYSTEM:

Current and former FCA and FCSIC employees, interns, volunteers, job applicants, and contractors (collectively “staff”), and other visitors to FCA facilities and field offices.

CATEGORIES OF RECORDS IN THE SYSTEM:

Information may include, without limitation: (a) Individual name and employee ID number; (b) employment related information including title, position, grade, and supervisor's name; (c) home and work contact information, including address, telephone number, and email address; (d) recent travel history; (e) health information including body temperature, confirmation of pathogen or communicable disease test, test results, dates, symptoms, potential or actual exposure to a pathogen or communicable disease, immunization or vaccination information, other medical history related to the treatment of a pathogen or communicable disease; (f) information related to requests for and approval of reasonable accommodation(s) due to the public health emergency, including type of accommodation(s) requested, date of request, reason for request, specific information regarding type of request, including but not limited to the characteristics of impairment, job function difficulties, current limitation(s), past accommodation(s), specific accommodation(s), permanent or temporary medical condition(s), or religious beliefs or practices, supporting documentation and related materials that substantiate a request for “reasonable accommodations,” case notes or similar pertaining to the request, including any notes created in evaluating the request, and status of the request, including denial or approval; (g) information necessary to support contact tracing efforts for communicable diseases such as dates, times, and locations when an individual visited an FCA facility or field office, as well as locations visited within the facility or field office, and names of other individuals with whom they may have had contact during those visits; and (h) copies of government issued identification cards.

RECORD SOURCE CATEGORIES:

Information in this system is obtained from the individual to whom it applies, or is derived from (i) information supplied by that individual; (ii) FCA or FCSIC employee's, intern's or contractor's supervisor; (iii) private and Federal health care providers, and medical institutions; (iv) security systems monitoring access to FCA facilities and offices, such as access badge card readers; (v) human resources systems; (vi) emergency notification systems; and (vii) federal, state, and local agencies assisting with the response to a public health emergency. Information may also be collected from property management companies responsible for managing office buildings that house FCA facilities.

ROUTINE USES OF RECORDS MAINTAINED IN THE SYSTEM, INCLUDING CATEGORIES OF USERS AND PURPOSES OF SUCH USES:

Routine uses 1, 3, 4, 5, 6, 7, 8, 9, 10, and 11 of the FCA's “General Statement of Routine Uses” (85 FR 31495, May 26, 2020) are applicale to this system. The “General Statement of Routine Uses” is also available on its website, www.fca.gov/privacy. The information collected in the system will be used in a manner compatible with the purposes for which the information has been collected and, in addition to the applicable general routine uses, may be disclosed for the following purposes:

(1) To a Federal, State, or local agency to the extent necessary to comply with laws governing reporting of infectious disease;

(2) To the emergency contact of staff for purposes of locating staff during a public health emergency or to communicate that staff may have potentially suffered exposure during a public health emergency while visiting a FCA facility or field office;

(3) To medical personnel to meet a bona fide medical emergency;

(4) To an authorized appeal grievance examiner, formal complaints examiner, administrative judge, equal employment opportunity investigator, arbitrator or other duly authorized official engaged in investigation or settlement of a grievance, complaint or appeal filed by an employee; and

(5) To an actual or potential party to litigation or the party's authorized representative for the purpose of negotiation or discussion on such matters as settlement, plea bargaining, or in information discovery proceedings.

DISCLSOURE TO CONSUMER REPORTING AGENCIES:

None.

POLICIES AND PRACTICES FOR STORAGE OF RECORDS:

Records are maintained in paper and electronic form. Paper records are maintained in file folders, with sensitive information kept under lock and key, with access limited to those with a need-to-know in support of their official duties. Electronic records are maintained in secure file shares and similar systems with technical access restricted to authorized personnel with a need-to know in support of their official duties.

POLICIES AND PRACTICES FOR RETRIEVAL OF RECORDS:

Records are retrievable by a variety of fields including, but not limited to, individual name, employee ID, or some combination thereof.

POLICIES AND PROCEDURES FOR RETENTION AND DISPOSAL OF RECORDS:

Records related to requests for and approval of a reasonable accommodation are managed in accordance with the National Archives and Records Administration (NARA) General Records Schedule (GRS) 2.3, item 20. Such records are considered temporary and destroyed three years after employee separation from the agency or all appeals are concluded, whichever is longer. For all other records in the system, FCA is currently awaiting further guidance from NARA on retention and destruction. Until such time, these records will be considered permanent.

ADMINSITRATIVE, TECHNICAL, AND PHYSICAL SAFEGUARDS:

FCA implements multiple layers of security to ensure access to records is limited to those with need-to-know in support of their official duties. Paper records are physically safeguarded in a secured environment using locked file rooms, file cabinets, or locked offices and other physical safeguards. Computerized records are safeguarded through use of user roles, passwords, firewalls, encryption, and other information technology security measures.

RECORD ACCESS PROCEDURES:

To obtain a record, contact: Privacy Act Officer, Farm Credit Administration, 1501 Farm Credit Drive, McLean, VA 22102-5090, as provided in 12 CFR part 603.

CONTESTING RECORD PROCEDURES:

Direct requests for amendments to a record to: Privacy Act Officer, Farm Credit Administration, 1501 Farm Credit Drive, McLean, VA 22102-5090, as provided in 12 CFR part 603.

NOTIFICATION PROCEDURE:

Direct all inquiries about this system of records to: Privacy Act Officer, Farm Credit Administration, McLean, VA 22102-5090.

EXEMPTIONS CLAIMED FOR THE SYSTEM:

None.

HISTORY:

None. This is a new System of Records.

Dated: November 10, 2021.
Ashley Waldron,
Secretary, Farm Credit Administration Board.

[FR Doc. 2021-25013 Filed 11-16-21; 8:45 am]

BILLING CODE 6705-01-P